DEPARTMENT OF JUSTICE

[OMB Number 1110-0049]

Agency Information Collection Activities; Propose eCollection, eComments Requested; Reinstatement With Changes of a Previously Approved Collection

AGENCY: Federal Bureau of Investigation, Cyber Division, Department of Justice.

ACTION: 60-Day Notice; InfraGard Membership Application and Profile.

SUMMARY: The Department of Justice (DOJ), Federal Bureau of Investigation (FBI), Cyber Division's National Industry Partnership Unit (NIPU) will be submitting the following information collection request to the Office of Management and Budget (OMB) for review and approval in accordance with the Paperwork Reduction Act of 1995. The proposed information collection is published to obtain comments from the public and affected agencies.

DATES: Comments are encouraged and will be accepted for 60 days until July 21, 2014.

FOR FURTHER INFORMATION CONTACT: Written comments and/or suggestions regarding the items contained in this notice, especially the estimated public burden and associated response time, should be directed to Lisa Avery, Management and Program Analyst, National Industry Partnership Unit, Federal Bureau of Investigation, Cyber Division, FBIHQ, 395 E Street SW., Washington, DC 20024 or facsimile at (202) 651-3190.

SUPPLEMENTARY INFORMATION: This process is conducted in accordance with 5 CFR 1320.10. Written comments and suggestions from the public and affected agencies concerning the proposed collection of information are encouraged. Your comments should address one or more of the following three points:

(1) Evaluate whether the proposed collection of information is necessary for the proper performance of the functions of the agency/component, including whether the information will have practical utility;

(2) Evaluate the accuracy of the agency's/component's estimate of the burden of the proposed collection of the information, including the validity of the methodology and assumptions used;

(3) Enhance the quality, utility, and clarity of the information to be collected; and minimize the burden of the collection of information on those who are to respond, including the use of appropriate automated, electronic, mechanical, or other technological collection techniques or other forms of information technology, e.g., permitting electronic submission of responses.

Overview of this information:

1. Type of Information Collection: Personally identifiable information for vetting purposes.

2. Title of the Forms: InfraGard Membership Application and Profile.

3. Agency Form Number, if any, and the applicable component of the department sponsoring the collection: N/A.

Sponsor: National Industry Partnership Unit (NIPU) Cyber Division of the Federal Bureau of Investigation (FBI), Department of Justice (DOJ).

4. Affected Public who will be asked or required to respond, as well as a brief abstract:

Primary: Members of the public and private-sector with a nexus to critical infrastructure protection interested in being a member of the FBI's National InfraGard Program.

Brief Abstract: Personal information is collected by the FBI for vetting and background information to obtain membership to the Program and access to its secure portal. InfraGard is a two-way information sharing exchange between the FBI and members of the public and private sector focused on intrusion and vulnerabilities affecting 16 critical infrastructures. Members are provided access to law enforcement sensitive analytical products pertaining to their area of expertise.

5. An estimate of the total number of respondents and the amount of time estimated for an average respondent to respond: InfraGard has approximately 27,000 members and receives approximately 7,200 new applications for membership per year. The average response time for reading and responding to the membership application and profile is estimated to be 30 minutes.

6. An estimate of the total public burden (in hours) associated with the collection: The total hour burden for completing the application and profile is 3,600 hours.

If additional information is required, contact: Jerri Murray, Department Clearance Officer, United States Department of Justice, Justice Management Division, Policy and Planning Staff, Two Constitution Square, 145 N Street NE., Room 3E.405B, Washington, DC 20530.

Dated: May 15, 2014.
Jerri Murray,
Department Clearance Officer for PRA, United States Department of Justice.

[FR Doc. 2014-11696 Filed 5-20-14; 8:45 am]

BILLING CODE 4410-02-P